DEPARTMENT OF THE TREASURY

Submission for OMB Review; Comment Request

April 20, 2000.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before May 30, 2000, to be assured of consideration.

Financial Crimes Enforcement Network (FinCEN)

OMB Number: 1505-0139.

Form Number: TD F 90-22.44.

Type of Review: Extension.

Title: Request for Research.

Description: This form allows the efficient intake of requests for investigative support sent to the Financial Crimes Enforcement Network (“FinCEN”) by federal, state, and local law enforcement. It provides the information necessary to determine the lawful parameters of data base searches in response to the requests.

Respondents: State, Local or Tribal Governments.

Estimated Number of Respondents: 7,000.

Estimated Burden Hours Per Respondent: 30 minutes.

Frequency of Response: Other (once per request).

Estimated Total Reporting Burden: 3,500 hours.

Clearance Officer: Lois K. Holland, (202) 622-1563, Departmental Offices, Room 2110, 1425 New York Avenue, NW., Washington, DC 20220.

OMB Reviewer: Alexander T. Hunt, (202) 395-7860, Office of Management and Budget, Room 10202, New Executive Office Building, Washington, DC 20503.

Lois K. Holland,
Departmental Reports Management Officer.

[FR Doc. 00-10458 Filed 4-26-00; 8:45 am]

BILLING CODE 4810-31-U